DEPARTMENT OF THE INTERIOR

Bureau of Indian Affairs

AGENCY: Bureau of Indian Education

ACTION: Notice of proposed renewal of information collection.

SUMMARY: The Bureau of Indian Education (BIE) is planning to renew the No Child Left Behind Regulation, 25 CFR part 36 and 47, OMB Control Number 1076-0164 as required by the Paperwork Reduction Act. The renewal will ensure we meet the residential requirements of the No Child Left Behind Act.

DATES: Written comments must be submitted on or before November 2, 2007.

ADDRESSES: You may submit comments on the information collection to the Desk Officer for the Department of the Interior at the Office of Management and Budget, by facsimile to (202) 395-6566 or you may send an e-mail to OIRA_DOCKET@omb.eop.gov. Please send copies of comments to the Bureau of Indian Education (BIE), 1849 C Street, NW., Mail Stop 3609-MIB, Washington, DC 20240.

FOR FURTHER INFORMATION CONTACT: Dr. James Martin (202) 208-6123.

SUPPLEMENTARY INFORMATION:

I. Abstract

Public Law 107-110, the No Child Left Behind (NCLB) Act of January 8, 2001, requires all schools, including Bureau of Indian Education (BIE) funded boarding/residential schools, to ensure that all children have a fair, equal, and significant opportunity to obtain a high-quality education and reach, at a minimum, proficiency on challenging academic achievement standards and assessments. In addition, the BIE is required by NCLB to implement national standards for home-living situations in all BIE funded residential schools. The BIE is required to assess each residential school and submit a plan to the Congress, tribes, and schools which will bring all BIE funded residential schools up to the national standards. Information from all BIE funded residential schools must be collected in order to assess each school's progress in meeting the national standards. Finally, the BIE is required to monitor programs, gather data, and complete reports for the U.S. Department of Education. To achieve these results, residential schools must prepare reports, develop curriculum, prepare financial planning documents, and establish standards to measure student progress. The BIE uses the Annual Report to the Department of Education and three other information collections for the BIE to collect data, measuring each school's performance. When there is a lack of progress, the residential schools must show that they have developed school improvement, corrective action, or restructuring plans to address the problems of all students. Additional information collection requirements have been developed to implement the No Child Left Behind Act.

II. Request for Comments

A 60-day notice requesting comments was published on May 7, 2007 (Vol. 72, FR 25773). There were no comments received regarding that notice. You are invited to comment on the following items to the Desk Officer at OMB at the citation in ADDRESSES section.

(a) Whether the collection of information is necessary for the proper performance of the functions of the agency, including whether the information will have practical utility;

(b) The accuracy of the agencies' estimate of the burden (including the hours and cost) of the proposed collection of information, including the validity of the methodology and assumption used;

(c) Ways to enhance the quality, utility, and clarity of the information to be collected;

(d) Ways to minimize the burden of the collection of information on those who are to respond, including through the use of appropriate automated, electronic, mechanical, or other collection techniques or other forms of information technology.

Comments submitted in response to this notice will be summarized and become a matter of public record.

OMB has up to 60 days to make a decision, but may decide after 30 days; therefore your comments will receive maximum consideration if received during the 30-day period.

We will not request nor sponsor a collection of information, and you need not respond to such a request, if there is no valid Office of Management and Budget Control Number.

III. Data

OMB Control Number: 1076-0164.

Type of Review: Renewal.

Title: No Child Left Behind Regulations, 25 CFR part 36 and 47.

Brief Description of Collection: This collection is mandatory according to statutory regulations, and the benefit to the respondents is continued supplementary Title programs funds.

Respondents: Bureau-funded schools with residential programs, tribal governing bodies, and school boards are the respondents, and submission is mandatory.

Number of Respondents: There are 66 schools with residential programs, of which 28 are Bureau-operated and 38 are tribally operated. Thus, the collection of information must be cleared for 38 of the 66 residential schools.

Estimated Time per Response: The range of time can vary from .02 hour to an average of 20 hours per 1 item.

Frequency of Response: Annually and sometimes daily.

Total Annual Burden to Respondents: It is estimated that 20,793 (number of responses) × 20 (hourly burden per response) = 415,860 total annual hours of burden.

Dated: September 25, 2007.
Carl J. Artman,
Assistant Secretary—Indian Affairs.

[FR Doc. E7-19451 Filed 10-2-07; 8:45 am]

BILLING CODE 4310-XN-P